DEPARTMENT OF ENERGY

Federal Energy Regulatory Commission

[Project No. 14725-000]

HY Power Energy Company; Notice of Preliminary Permit Application Accepted for Filing and Soliciting Comments, Motions To Intervene, and Competing Applications

On November 2, 2015, HY Power Energy Company filed an application for a preliminary permit, pursuant to section 4(f) of the Federal Power Act (FPA), proposing to study the feasibility of the Inglis Lock By-pass Dam Water Power Project (Inglis By-pass Project or project) to be located at the existing U.S. Army Corps of Engineers' Inglis Dam on the Withlacoochee River in Levy County, Florida. The sole purpose of a preliminary permit, if issued, is to grant the permit holder priority to file a license application during the permit term. A preliminary permit does not authorize the permit holder to perform any land-disturbing activities or otherwise enter upon lands or waters owned by others without the owners' express permission.

The proposed project would consist of the following: (1) A 60-foot-long, 98-foot-wide intake channel; (2) a 115-foot-long, 28-foot-wide powerhouse containing one generating unit with a total capacity of 2.8 megawatts; (3) a 10-foot-long, 20-foot-wide control building; (4) a 25-foot-long, 25-foot-wide substation adjacent to the control building; (5) a 300-foot-long, 12.47kV transmission line. The proposed project would have an estimated average annual generation of 16,200 megawatt-hours, and operate as directed by the Corps.

Applicant Contact: Mr. Robert Karow, HY Power Energy Company, 5218 SW 34th Street, Gainesville, FL 32608; telephone (352) 336-4727.

FERC Contact: Chris Casey; phone: (202) 502-8577.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14725-000.

More information about this project, including a copy of the application, can be viewed or printed on the “eLibrary” link of the Commission's Web site at http://www.ferc.gov/docs-filing/elibrary.asp. Enter the docket number (P-14725) in the docket number field to access the document. For assistance, contact FERC Online Support.

Dated: July 6, 2016.
Kimberly D. Bose,
Secretary.

[FR Doc. 2016-16398 Filed 7-11-16; 8:45 am]

BILLING CODE 6717-01-P